DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Children's Study of Environmental Effects on Health Advisory Committee.

The meeting will be open to the public, with attendance limited to space available. Individuals who plan to attend and need special assistance, such as sign language interpretation or other reasonable accommodations, should notify the Contact Person listed below in advance of the meeting.

Name of Committee: National Children's Study of Environmental Effects on Health Advisory Committee.

Date: September 12-13, 2002.

Time: 9 a.m. to 3 p.m.

Agenda: Presentations and discussion of proposed hypotheses for the NCS, study design issues, and the structure and function of ongoing workgroups. Opportunity may be provided for public comments at the discretion of the Chair. Those interested in attending, contact ncs@mail.nih.gov by September 5th. Those allocated a seat will be notified on September 9th via phone or e-mail.

Place: Environmental Protection Agency, Crystal Station Building, Conference Room A, Second Floor, 2800 Crystal Drive, Arlington, VA 22202.

Contact Person: Peter M. Scheidt, MD, Medical Officer, Division of Epidemiology, Statistics and Prevention Research, National Institute of Child Health and Human Development, NIH, 6100 Executive Boulevard, Room 7B03, Bethesda, MD 20892. (301) 451-6421. ncs@mail.nih.gov.

(Catalogue of Federal Domestic Assistance Program Nos. 93.209, Contraception and Infertility Loan Repayment Program; 93.864, Population Research; 93.865, Research for Mothers and Children; 93.929, Center for Medical Rehabilitation Research, National Institutes of Health, HHS)

Dated: August 9, 2002.
LaVerne Y. Stringfield,
Director, Office of Federal Advisory Committee Policy.

[FR Doc. 02-20848 Filed 8-15-02; 8:45 am]

BILLING CODE 4140-01-M